CONSUMER PRODUCT SAFETY COMMISSION

16 CFR Part 1422

RIN 3041-AC78

Standard for Recreational Off-Highway Vehicles

AGENCY: Consumer Product Safety Commission.

ACTION: Notice of extension of comment period.

SUMMARY: The Commission is extending its comment period to receive information regarding the advance notice of proposed rulemaking concerning Recreational Off-Highway Vehicles (ROVs). The Commission received two letters requesting an extension of the comment period, one from three manufacturers and distributors of Multi-Purpose Off-Highway Utility Vehicles, and the other from a trade association. The letters each requested that the comment period be extended 60 days from the date certain information was received by the companies or became publicly available. The Commission has decided to extend the comment period 75 days after the original comment period of December 28, 2009.

DATES: Written comments in response to this document must be received by the Commission no later than March 15, 2010.

ADDRESSES: You may submit comments, identified by Docket No. CPSC-2009-0087, by any of the following methods:

Electronic Submissions

Submit electronic comments in the following way:

Federal eRulemaking Portal: http://www.regulations.gov. Follow the instructions for submitting comments. To ensure timely processing of comments, the Commission is no longer accepting comments submitted by electronic mail (e-mail) except through http://www.regulations.gov.

Written Submissions

Submit written submissions in the following way:

Mail/Hand delivery/Courier (for paper (preferably in five copies), disk, or CD-ROM submissions), to: Office of the Secretary, Consumer Product Safety Commission, Room 502, 4330 East West Highway, Bethesda, MD 20814; telephone (301) 504-7923.

Instructions: All submissions received must include the agency name and docket number for this rulemaking. All comments received may be posted without change, including any personal identifiers, contact information, or other personal information provided, to http://www.regulations.gov. Do not submit confidential business information, trade secret information, or other sensitive or protected information electronically. Such information should be submitted in writing.

Docket: For access to the docket to read background comments or comments received, go to http://www.regulations.gov.

FOR FURTHER INFORMATION CONTACT: For information about submitting comments, call or write to Rockelle Hammond, Office of the Secretary, Consumer Product Safety Commission, Bethesda, MD 20814; telephone (301) 504-6833.

SUPPLEMENTARY INFORMATION: On October 28, 2009, the Commission published an ANPR in the Federal Register concerning ROVs. 74 FR 55495. The ANPR was issued under the authority of the Consumer Product Safety Act (CPSA). The ANPR provided for a 60-day comment period to end December 28, 2009. Three companies that manufacture and/or distribute Multi-Purpose Off-Highway Utility Vehicles (American Honda Motor Co., Inc., Deere & Company and Kawasaki Motors Corp., U.S.A.) and a trade association (Recreational Off-Highway Vehicle Association) have requested that the Commission extend the comment period 60 days after the companies receive certain information or that information becomes publicly available. A portion of this information was publicly released on November 20, 2009. The remainder, which was posted for a period of five days on the Commission's Web site in draft form, was finalized on December 15, 2009, and is now publicly available.¹ Because this information was only recently released, the Commission has decided to extend the comment period to 75 days from the date of the original comment period deadline, or March 15, 2010.

¹ All of this information will become part of the public record.

Dated: December 17, 2009.
Todd A. Stevenson,
Secretary, Consumer Product Safety Commission.

[FR Doc. E9-30378 Filed 12-21-09; 8:45 am]

BILLING CODE 6355-01-P